DEPARTMENT OF ENERGY

Federal Energy Regulatory Commission

[Docket Nos. CP06-54-000, CP06-55-000, CP06-56-000]

Broadwater Energy LLC, Broadwater Pipeline LLC; Notice of Applications

February 17, 2006.

Take notice that on January 30, 2006, Broadwater Energy LLC (Broadwater Energy) filed an application under section 3 of the Natural Gas Act (NGA) and Part 153 of the Commission's Rules and Regulations seeking authorization to site, construct and operate an offshore liquefied natural gas (LNG) receiving terminal and associated facilities (Floating Storage and Regasification Unit) in Long Island Sound, approximately nine miles from the shore of Long Island in New York State waters, as a place of entry for the importation of LNG. Broadwater Energy's proposed terminal is intended to facilitate the importation of LNG from foreign nations into the United States.

Also, take notice that on January 30, 2006, Broadwater Pipeline LLC (Broadwater Pipeline) concurrently filed an application requesting: (i) In Docket No. CP06-55-000 a certificate of public convenience and necessity, pursuant to subpart A of part 157 of the Commission's regulations, authorizing Broadwater Pipeline to construct, own, operate and maintain a 30-inch, 22 mile subsea lateral (and related facilities) as a single-use pipeline; and (ii) in Docket No. CP06-56-000, Broadwater Pipeline requests a blanket certificate under section 7(c) of the NGA and part 157, subpart F of the Commission's regulations to perform routine activities in connection with the future construction, operation and maintenance of the proposed 22-mile pipeline. Broadwater Pipeline seeks authorization to permit its proposed pipeline to be operated as a single-use pipeline. That is, it would be used for just one purpose—to transport natural gas approximately 22 miles from the Floating Storage and Regasification Unit (FSRU), to a subsea interconnection with an existing interstate pipeline.

Broadwater Energy and Broadwater Pipeline respectfully request that the Commission issue a final order granting them all necessary authorizations for the Broadwater LNG project by March 31, 2007. We note that certain information regarding design standards for the FSRU that was requested by the FERC and U.S. Coast Guard during the Pre-Filing Process was not provided in the application. FERC staff and the U.S. Coast Guard are unable to initiate the design/engineering review of the FSRU or complete the Waterway Suitability Assessment process without this information. Consequently, at this time we are unable to project a schedule for our review or issuance of the draft environmental impact statement (DEIS). Once this information is received, we will issue a notice establishing the schedule for the completion of the DEIS and the issuance of all Federal authorizations.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding these applications should be directed to Brian D. O'Neill or Bruce W. Neely, LeBoeuf, Lamb, Greene & MacRae LLP, 1875 Connecticut Ave., NW., Suite 1200, Washington, DC 20009 by telephone at (202) 986-8000 or by fax (202) 986-8102.

On November 29, 2004, the Commission staff granted Broadwater Energy's and Broadwater Pipeline's request to utilize the Pre-Filing Process and assigned Docket No. PF05-4-000 to staff activities involving the Broadwater LNG project. Now, as of the filing of Broadwater Energy's and Broadwater Pipeline's applications on January 30, 2006, the Pre-Filing Process for this project has ended. From this time forward, Broadwater Energy's and Broadwater Pipeline's proceeding will be conducted in Docket Nos. CP06-54-000, CP06-55-000, and CP06-56-000, as noted in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: March 10, 2006.

Magalie R. Salas,
Secretary.

[FR Doc. E6-2700 Filed 2-24-06; 8:45 am]

BILLING CODE 6717-01-P